DEPARTMENT OF COMMERCE

National Oceanic and Atmospheric Administration

[I.D. 010203C]

Marine Mammals; File Nos. 473-1700, 545-1488, 662-1661 and 1039-1699

AGENCY: National Marine Fisheries Service, National Oceanic and Atmospheric Administration (NOAA), Commerce.

ACTION: Receipt of applications for new permits and permit amendments.

SUMMARY: Notice is hereby given that the following individuals/organizations have applied in due form for a permit or permit amendment to take humpback whales (Megaptera novaeangliae), killer whales (Orcinus orca), sperm whales (Physeter macrocephalus), fin whales (Balaenoptera physalis), minke whales (Balaenoptera acutorostrata), gray whales (Eschrichtius robustus), Baird's beaked whales (Berardius bairdii), Cuvier's beaked whales (Ziphius cavirostris), Stejneger's beaked whales (Mesoplodon stejnergeri), harbor porpoise (Phocoena phocoena), Dall's porpoise (Phocoenoides dalli), harbor seals (Phoca vitulina), Pacific white-sided dolphins (Lagenorhynchus obliquidens), Northern fur seals (Callorhinus ursinus), Steller sea lions (Eumetopias jubatus), false killer whales (Pseudorca crassidens), pygmy killer whales (Feresa attenuate), pilot whales (Globicephala macrorhynchus), melon-headed whales (Peponocephala electra), bottlenose dolphins (Tursiops truncatus), spinner dolphins (Stenella longirostris), rough-toothed dolphins (Steno bredanenis), and/or spotted dolphins (Stenella attenuata) for the purposes of scientific research: Janice Straley, Assistant Professor of Marine Biology, University of Southeast Alaska, 1332 Seward Avenue, Sitka, AK 99835-9498, (PI: Jan Straley); North Gulf Oceanic Society, 60920 Mary Allen Avenue, Homer, AK 99603, (PI: Craig Matkin); Ms. Dena Matkin, Box 22, Gustavus, AK 99826, (PI: Dena Matkin); and Ms. Ann Zoidis, Marine Mammal Biologist, Allied Whale, 11 Des Isle Ave., PO Box 885, Bar Harbor, ME 04609, (PI: Ann Zoidis).

ADDRESSES: The permit applications, amendment requests and related documents are available for review upon written request or by appointment in the following office(s):

Permits, Conservation and Education Division, Office of Protected Resources, NMFS, 1315 East-West Highway, Room 13705, Silver Spring, MD 20910, (301)713-2289, (all applications);

Protected Species Coordinator, Pacific Area Office, NMFS, 1601 Kapiolani Blvd., Rm, 1110, Honolulu, HI 96814-4700; phone (808)973-2935; fax (808)973-2941, (file no. 1039-1699 only); and

Alaska Region, NMFS, P.O. Box 21668, Juneau, AK 99802-1668, (907)586-7221 (file nos. 473-1700, 545-1488 and 662-1661 only).

FOR FURTHER INFORMATION CONTACT: Jill Lewandowski or Lynne Barre, (301) 713-2289.

SUPPLEMENTARY INFORMATION: The subject permits and amendments are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

Janice Straley (file no. 473-1700) requests a five-year scientific research permit to collect long term population data on humpback whales, predation data on killer whales and longline fishing gear depredation by sperm whales. The permit applicant requests takes by close approach for: (1) photo-identification, behavioral observation, biopsy sampling, suction cup tagging for CRITTERCAM and incidental harassment of sperm whales; (2) photo-identification, behavioral observation, biopsy sampling, collection of dead parts following killer whale predation events and incidental harassment of humpback whales, gray whales, minke whales and fin whales; (3) photo-identification, behavioral observation, biopsy sampling and incidental harassment of killer whales; and (4) collection of dead parts following killer whale predation events of additional species of harbor porpoise, Dall's porpoise, Pacific white-sided dolphin, Northern fur seal, Steller sea lion and harbor seal. All research will take place in Alaska waters. This is a continuation of studies authorized under Permit No. 473-1433-04.

The North Gulf Oceanic Society (PI: Craig Matkin) is requesting an amendment to Permit No. 545-1488-01 which authorizes the take by close approach for photo-identification, behavioral observation and incidental harassment of killer whales for the purposes of population analyses and predation studies. This permit also authorizes the collection of dead parts available after killer whale predation events from the following species: Steller sea lion, humpback whale, minke whale, gray whale, harbor porpoise, Dall's porpoise, harbor seal, Pacific white-sided dolphin and Northern fur seal. Research activities take place in Alaska waters, and the permit expires on March 31, 2004.

The permit amendment request (file no. 545-1488) would add the deployment by close approach of short-term radio, satellite, acoustic recording, and underwater video tags and biopsy sampling on the following species: killer whale, gray whale, harbor porpoise, Dall's porpoise, Pacific white-sided dolphin, Baird's beaked whale, Cuvier's beaked whale and Stejneger's beaked whales. The purpose of the amendment, as noted in the application, is to examine diving behavior, feeding, and movements of whales and to obtain information on elusive and rarely studied species.

Dena Matkin (file no. 662-1661) requests a five-year scientific research permit to continue long-term population and predation studies of killer whales and opportunistic population studies of humpback whales in Alaska waters by close approach for photo-identification and behavioral observation. The applicant also requests authorization to continue collecting dead parts following killer whale predation events from the following species: Steller sea lion, humpback whale, minke whale, gray whale, harbor porpoise, Dall's porpoise, harbor seal, Pacific white-sided dolphin and Northern fur seal. This research has been previously authorized under Permit No. 662-1345 which expires on May 31, 2003.

Ann Zoidis (file no. 1039-1700) requests a five-year scientific research permit to study social sound production in humpback whales in the waters of Kauai, Maui and the Big Island, Hawaii. The applicant requests takes of humpback whales by close approach for photo-identification and behavioral observation (above and below water), underwater passive acoustic recordings and incidental harassment. During these humpback whale studies, the applicant also requests take authorizations for underwater passive acoustic recordings and incidental harassment of the following species: false killer whale, pygmy killer whale, pilot whale, melon-headed whale, bottlenose dolphin, spinner dolphin, rough-toothed dolphin, and spotted dolphin.

In compliance with the National Environmental Policy Act of 1969 (42 U.S.C. 4321 et seq.), an initial determination has been made that the activities proposed are categorically excluded from the requirement to prepare an environmental assessment or environmental impact statement.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: January 13, 2003.
Stephen L. Leathery,
Chief, Permits, Conservation and Education Division, Office of Protected Resources, National Marine Fisheries Service.

[FR Doc. 03-1251 Filed 1-17-03; 8:45 am]

BILLING CODE 3510-22-S